DEPARTMENT OF DEFENSE

Defense Acquisition Regulations System

[OMB Control Number 0704-0332]

Information Collection Requirement; Defense Federal Acquisition Regulation Supplement; DoD Pilot Mentor-Protege Program

AGENCY: Defense Acquisition Regulations System, Department of Defense (DoD).

ACTION: Notice and request for comments regarding a proposed extension of an approved information collection requirement.

SUMMARY: In compliance with Section 3506(c)(2)(A) of the Paperwork Reduction Act of 1995 (44 U.S.C. Chapter 35), DoD announces the proposed extension of a public information collection requirement and seeks public comment on the provisions thereof. DoD invites comments on: (a) Whether the proposed collection of information is necessary for the proper performance of the functions of DoD, including whether the information will have practical utility; (b) the accuracy of the estimate of the burden of the proposed information collection; (c) ways to enhance the quality, utility, and clarity of the information to be collected; and (d) ways to minimize the burden of the information collection on respondents, including the use of automated collection techniques or other forms of information technology. The Office of Management and Budget (OMB) has approved this information collection for use through May 31, 2007. DoD proposes that OMB extend its approval for three additional years.

DATES: DoD will consider all comments received by March 23, 2007.

ADDRESSES: You may submit comments, identified by OMB Control Number 0704-0332, using any of the following methods:

• Federal eRulemaking Portal: http://www.regulations.gov. Follow the instructions for submitting comments.

• E-mail: dfars@osd.mil. Include OMB Control Number 0704-0332 in the subject line of the message.

• Fax: (703) 602-0350.

• Mail: Defense Acquisition Regulations System, Attn: Ms. Deborah Tronic, OUSD(AT&L)DPAP(DARS), IMD 3C132, 3062 Defense Pentagon, Washington, DC 20301-3062.

• Hand Delivery/Courier: Defense Acquisition Regulations System, Crystal Square 4, Suite 200A, 241 18th Street, Arlington, VA 22202-3402.

Comments received generally will be posted without change to http://www.regulations.gov, including any personal information provided.

FOR FURTHER INFORMATION CONTACT: Ms. Deborah Tronic, at (703) 602-0289. The information collection requirements addressed in this notice are available on the World Wide Web at: http://www.acq.osd.mil/dpap/dars/dfars/index.htm. Paper copies are available from Ms. Deborah Tronic, OUSD(AT&L)DPAP(DARS), IMD 3C132, 3062 Defense Pentagon, Washington, DC 20301-3062.

SUPPLEMENTARY INFORMATION: Title and OMB Number: Defense Federal Acquisition Regulation Supplement (DFARS) Appendix I, DoD Pilot Mentor-Protege Program; OMB Control Number 0704-0332.

Needs and Uses: DoD needs this information to evaluate whether the purposes of the DoD Pilot Mentor-Protege Program have been met. The purposes of the Program are to (1) provide incentives to major DoD contractors to assist protege firms in enhancing their capabilities to satisfy contract and subcontract requirements; (2) increase the overall participation of protege firms as subcontractors and suppliers; and (3) foster the establishment of long-term business relationships between protege firms and major DoD contractors. This Program implements Section 831 of the National Defense Authorization Act for Fiscal Year 1991 (Public Law 101-510) and Section 811 of the National Defense Authorization Act for Fiscal Year 2000 (Public Law 106-65) (10 U.S.C. 2302 note). Participation in the Program is voluntary.

Affected Public: Businesses or other for-profit organizations.

Annual Burden Hours: 1,300 (includes 847 recordkeeping hours).

Number of Respondents: 229.

Responses Per Respondent: Approximately 2.

Annual Responses: 453.

Average Burden Per Response: 1 hour.

Average Recordkeeping Per Response: 3.7 hours.

Frequency: Semiannually (mentor); Annually (protege).

Summary of Information Collection

DFARS Appendix I, Section 112, requires mentor firms to report on the progress made under active mentor-protege agreements, semiannually for the periods ending March 31st and September 30th throughout the Program participation term of the agreement. The September 30th report must address the entire fiscal year. Reports must include the following data on performance under the mentor-protege agreement:

(1) Dollars obligated.

(2) Expenditures.

(3) Dollars credited, if any, toward applicable subcontracting goals as a result of developmental assistance provided to the protege and a copy of the Standard Form (SF) 294 and/or SF 295 for each contract where developmental assistance was credited. These amounts must be identified on the SF 294/SF 295 separately from the amounts credited toward the goals resulting from the award of actual subcontracts to protege firms.

(4) The number and dollar value of subcontracts awarded to the protege firm.

(5) Description of developmental assistance provided, including milestones achieved.

(6) Impact of the agreement in terms of capabilities enhanced, certifications received, and/or technology transferred.

In addition, the protege firm must provide data, annually by October 31st, on the protege firm's progress in employment, revenues, and participation in DoD contracts during each fiscal year of the Program participation term and each of the two fiscal years following the expiration of the Program participation term. During the Program participation term, this information may be provided as part of the annual mentor report for the period ending September 30th.

Michele P. Peterson,
Editor, Defense Acquisition Regulations System.

[FR Doc. E7-734 Filed 1-19-07; 8:45 am]

BILLING CODE 5001-08-P